DEPARTMENT OF AGRICULTURE

Foreign Agricultural Service

Notice of Funding Availability: Inviting Applications for McGovern-Dole International Food for Education and Child Nutrition Program's Micronutrient-Fortified Food Aid Products Pilot

Announcement Type: New.

Catalog of Federal Domestic Assistance (CFDA) Number: 10.608.

Summary: The Foreign Agricultural Service (FAS) announces it is inviting proposals for the McGovern-Dole International Food for Education and Child Nutrition (McGovern-Dole) Program Micronutrient-Fortified Food Aid Products Pilot (MFFAPP). Up to $9 million of funding is available for the MFFAPP. Eligible applicants may submit proposals through June 10, 2011. The MFFAPP is administered through FAS's McGovern-Dole International Food for Education and Child Nutrition (McGovern-Dole) Program.

Dates: All applications must be received by 5 p.m. Eastern Standard Time, June 10, 2011. Applications received after this date will not be considered.

For Further Information Contact: Food Assistance Division, Office of Capacity Building and Development, Foreign Agricultural Service, Portals Office Building, Suite 400, 1250 Maryland Avenue, SW., Washington, DC 20024; by phone: (202) 720-4221; by fax: (202) 690-0251; or by e-mail at ppded@fas.usda.gov.

Supplementary Information:

I. Funding Opportunity Description

A. Authority: The MFFAPP uses the authority of the McGovern-Dole Program, which is authorized by the Farm Security and Rural Investment Act of 2002, as amended.

B. Purpose: Under the MFFAPP, participants will have access to resources to introduce and field test new or improved micronutrient-fortified food aid products. FAS defines micronutrient-fortified food aid products as foods used for direct feeding that are nutritionally enhanced with vitamin or mineral additions to address the micronutrient deficiencies of a population or group. The food aid products must be designed to meet the energy and nutrient needs of populations served by the McGovern-Dole Program, including school-aged children, children under 5 years of age, pregnant and lactating mothers, and infants. The process of micronutrient fortification must take place in the United States and use U.S. origin products. The participant may develop a new product or improve an existing product, either directly or by contracting with another party. This pilot does not support field testing for products that already exist or have been recently developed.

Through this pilot, FAS hopes to identify new products that provide the most improvement in nutrition for the targeted beneficiaries in the most cost-effective manner. FAS will examine each proposal for its appropriateness to the beneficiary population and targeted country context, its intended impact on the nutrition of program beneficiaries, and the expected outcomes of the pilot project.

C. Priorities: 1. FAS is seeking to maximize the cost effectiveness of implementing this pilot. Therefore, FAS will give priority consideration to otherwise acceptable proposals that will develop and field test food aid products in conjunction with current or already-approved future activities under the McGovern-Dole Program in the following countries: Afghanistan, Angola, Bangladesh, Benin, Bolivia, Burkina Faso, Cambodia, Cameroon, Chad, Ethiopia, Guatemala, Guinea-Bissau, Haiti, Kenya, Lao PDR, Liberia, Madagascar, Malawi, Mali, Mozambique, Nepal, Nicaragua, Niger, Pakistan, Republic of Congo, Rwanda, Senegal, Sierra Leone, and Uganda.

2. FAS will also consider, but will give a lower priority to, proposals for projects to develop and field test food aid products, whether or not in conjunction with current or already-approved future activities under the McGovern-Dole Program, in countries other than those listed in Section I.C.1., provided that the project is short term and supports sustainability efforts and the country meets the following criteria:

a. Low or Lower Middle Income Country—according to World Bank data (2008 World Bank);

b. Greater than 20 percent prevalence of stunting (World Health Organization);

c. Adult literacy rate below 80 percent;

d. Government support for education;

e. Absence of civil conflict; and

f. FAS has a representative covering the country who can provide the ability for oversight of program activities.

3. If an applicant for funding under the MFFAPP proposes to develop and field test a food aid product in conjunction with the current or approved activities of another entity under the McGovern-Dole Program, the applicant must obtain the agreement of such entity that the applicant may develop and field test the food aid product in conjunction with its activities. The applicant does not have to be the entity that is carrying or will carry out the current or approved activities under the McGovern-Dole Program.

4. Please note that the focus of this pilot is on developing and field testing new products and not on providing school meals on a large scale.

II. Award Information

A. Award Size: FAS has approximately $9 million available for the development, improvement, and field testing of micronutrient-fortified food products. The limited funds will generally preclude FAS from approving a project costing more than $3 million, although there is no minimum or maximum amount set for each MFFAPP-funded project.

B. Type of Award: All awards will be made in the form of competitive grants.

III. Eligibility Information

For eligibility requirements, see the McGovern-Dole Program regulations (7 CFR 1599.3).

IV. Application and Submission Information

A. Application content: An applicant for funding under the MFFAPP shall submit an application that contains the information specified in 7 CFR 1599.4, which includes a completed form SF-424, an Introductory Statement, and a Plan of Operation. Guidance on preparing the Introductory Statement and Plan of Operation can be found at the following address: http://www.fas.usda.gov/excredits/FoodAid/FFE/FFE.asp. In addition, the application shall include the following:

1. Information on the micronutrient-fortified food aid products to be introduced, including:

a. A description of the new micronutrient-fortified food aid product to be developed and delivered, and an explanation of how the newly developed food aid product will be field tested and evaluated; or a description of the already existing, but improved, micronutrient-fortified food aid product to be delivered, and an explanation of how the food aid product will be field tested and evaluated;

b. An explanation of the need for the micronutrient-fortified food aid product in the targeted country and information regarding the country's current direct distribution operations, if they already exist, including a description of any micronutrient-fortified foods distributed and current funding resources;

c. Reasons for selecting the type of micronutrient-fortified food aid product;

d. The intended beneficiaries' health or nutritional deficiencies that could be alleviated by the micronutrient-fortified food product; and

e. The impact on the targeted beneficiaries, including an explanation of how the identified health or nutritional deficiencies will be addressed by introducing new or improved micronutrient-fortified food aid.

2. Information about the applicant's past activities in fortifying food products and food aid distribution projects, if any.

3. Information about the costs and logistics that would be involved in carrying out the applicant's proposal, including:

a. A complete description of the costs to develop, or contract to develop, and transport the new or improved food aid product to be introduced, and a budget proposal for funding these items; and

b. A description of the distribution process, storage, and handling, including shelf life, of the new or improved product.

4. If the proposal is to develop and field test a food aid product in conjunction with current or approved activities under the McGovern-Dole Program, a written statement from the entity that is carrying or will carry out such activities that it has agreed to work with the applicant as outlined in its proposal.

5. Information about the level of government and community support for maternal, child, and student health, and nutrition in the targeted country.

6. A detailed description of the methodology, rationale, and proposed timeline to be used to field test and evaluate the impact of the new or improved micronutrient-fortified food aid product on the intended beneficiaries as compared to traditional food assistance commodities.

7. A detailed description of how the project will be evaluated and a completed report submitted to FAS.

B. Method of Submission: The entire application package must be submitted electronically either to FAS's online proposal entry system located at http://www.fas.usda.gov/excredits/FoodAid/FFE/ApplyForProgram.asp, which is the preferred method, or by e-mail at ppded@fas.usda.gov.

C. Deadline for Submission: All applications must be received by 5 p.m. Eastern Standard Time, June 10, 2011. Applications received after this date will not be considered.

V. Proposal Review Criteria

A. Review Process: FAS will review all responsive proposals that are submitted by the deadline. FAS will invite comments from other U.S. governmental agencies on its award recommendations, but FAS will make the final determination about which proposals to fund. After the initial evaluations, FAS will undertake an additional review to ensure that activities funded under this pilot will be conducted in multiple geographic regions.

B. Criteria: After prioritizing the proposals using the McGovern-Dole Program and country criteria outlined in Section I.C., FAS will review and evaluate each proposal using the following criteria:

1. Need for the micronutrient-fortified food aid product (20 percent).

a. Is the need clearly established with statistics on food deficiencies, malnutrition, micronutrient deficiencies, and the effects of these conditions on the intended beneficiaries?

b. Does the targeted country clearly demonstrate commitment to reducing the prevalence of malnutrition and under-nutrition in the country with education and other support?

2. Focus on the product to be developed or improved (30 percent).

a. To what extent would the fortified food aid product provide a benefit by ameliorating or preventing a nutritional deficiency disease?

b. Are the costs to produce or improve the product reasonable?

c. How easy would it be to transport and use the product, and would the shelf life be long enough?

d. Are there adequate measures in place to distribute, store, and handle the product within the targeted country?

e. Is the product appropriate to address the nutritional needs of the beneficiaries in the context of the targeted country?

3. Organizational experience and capability (20 percent).

a. Does the proposal clearly demonstrate the organization's capability and effectiveness in implementing previous food aid programs, particularly ones targeting school-aged children, children under age 5, or maternal and infant health?

b. Does the proposal provide evidence that the organization has the knowledge, expertise, ability, and resources to successfully implement the project, including evidence of its timeliness and quality of reporting on past food aid activities?

c. Does the proposal demonstrate that the organization has an experienced management team that can properly implement, monitor, and evaluate the project?

4. Monitoring and evaluation (30 percent).

a. Are the baselines and target goals well developed, recent, and clear?

b. Is the monitoring and evaluation criteria and process clearly described and sufficient to provide FAS with an evaluation report that would clearly indicate the benefit and drawbacks of the new product to the population?

c. What are the qualifications of the evaluation team?

d. Is the organization's plan to develop and submit a final evaluation report to FAS clear and well defined?

e. What is the quality of the project's performance measures, and the degree to which they relate to the objectives, deliverables, and proposed approach and activities?

VI. Award Administration Information

1. Award Notices: FAS will notify each applicant in writing of the final disposition of its application. FAS will send a letter to each approved applicant that will specify the amount of funding. Once the approved applicant receives this letter, FAS will begin negotiations with the program participant to develop a grant agreement. The agreement will incorporate the details of the project as approved by FAS and in accordance with the McGovern-Dole Program regulations, 7 CFR part 1599. Approved applicants will not receive funding under the MFFAPP until the agreement negotiation is complete and the agreement has been signed by authorized representatives of the applicant and FAS.

2. Reporting: An organization receiving funding under the MFFAPP will be required to provide quarterly financial reports, semi-annual logistics and monitoring reports, and a final evaluation report, as provided in the grant agreement. In its final evaluation report, the organization will be required to use supporting evidence gathered during the pilot to describe the benefits and drawbacks of the new product to the population and to address the benefits or drawbacks of the new or improved product as compared to traditional food assistance commodities. Changes in the original project timelines and adjustments within project budgets must be approved by FAS prior to their implementation.

3. Monitoring and Evaluation: A program participant shall submit to FAS, in the manner specified in the agreement, an annual financial audit in accordance with 7 CFR 1599.13(d). If FAS requires an annual financial audit with respect to a particular agreement, and FAS provides funds for this purpose, the participant shall arrange for such audit and submit it to FAS, in the manner specified in the agreement. The participant shall provide to FAS additional information or reports relating to the agreement if requested by FAS.

Signed at Washington, DC on the 24th of January 2011.
John D. Brewer,
Administrator, Foreign Agricultural Service.

[FR Doc. 2011-5712 Filed 3-11-11; 8:45 am]

BILLING CODE 3410-10-P